DEPARTMENT OF DEFENSE

Department of the Navy

[Docket ID USN-2012-0017]

Privacy Act of 1974; System of Records

AGENCY: Department of the Navy, DoD.

ACTION: Notice to Delete a System of Records.

SUMMARY: The Department of the Navy is deleting a system of records notice in its existing inventory of record systems subject to the Privacy Act of 1974 (5 U.S.C. 552a), as amended.

DATES: This proposed action will be effective on October 22, 2012 unless comments are received which result in a contrary determination. Comments will be accepted on or before October 19, 2012.

ADDRESSES: You may submit comments, identified by docket number and title, by any of the following methods:

• Federal Rulemaking Portal: http://www.regulations.gov. Follow the instructions for submitting comments.

• Mail: Federal Docket Management System Office, 4800 Mark Center Drive, East Tower, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Department of the Navy, DNS-36, 2000 Navy Pentagon, Washington, DC 20350-2000 or call at (202) 685-6545.

SUPPLEMENTARY INFORMATION: The Department of the Navy systems of records notices subject to the Privacy Act of 1974 (5 U.S.C. 552a), as amended, have been published in the Federal Register and are available from the address in FOR FURTHER INFORMATION CONTACT. The proposed deletion is not within the purview of subsection (r) of the Privacy Act of 1974 (5 U.S.C. 552a), as amended, which requires the submission of a new or altered system report.

Dated: September 14, 2012.
Aaron Siegel,
Alternate OSD Federal Register Liaison Officer, Department of Defense.

Deletion:

NM01070-14

Personnel Information System for Training, Operations, and Logistics (PISTOL) (June 8, 2009, 74 FR 27125).

Reason:

All data from PISTOL was transferred to the Advanced Skills Management application, and is now covered by System of Records, NM01500-3, Advanced Skills Management (ASM) System Records (November 12, 2008, 73 FR 66883). Only convenience copies of the PISTOL data are currently retained and shall be destroyed in accordance with the National Archives and Records Administration disposition schedule. Therefore, NM01070-14, Personnel Information System for Training, Operations, and Logistics (PISTOL) can be deleted.

[FR Doc. 2012-23069 Filed 9-18-12; 8:45 am]

BILLING CODE 5001-06-P